DEPARTMENT OF HEALTH AND HUMAN SERVICES

Health Care Financing Administration

42 CFR Parts 411 and 424

[HCFA-1809-N]

Medicare and Medicaid Programs; Physicians' Referrals to Health Care Entities With Which They Have Financial Relationships; Extension of Comment Period

AGENCY: Health Care Financing Administration (HCFA), DHHS.

ACTION: Notice of extension of comment period for final rule with comment period.

SUMMARY: This document extends the comment period for a final rule with comment period, “Medicare and Medicaid Programs; Physicians' Referrals to Health Care Entities With Which They Have Financial Relationships,” published in the Federal Register (66 FR 856) on January 4, 2001. That rule prohibits physicians from referring patients for the furnishing of certain designated health services to health care entities with which they (or a member of their immediate family) have a financial relationship, if payment for the services may be made under the Medicare program. The comment period that would have closed on April 4, 2001 is extended 60 days.

DATES: The comment period is extended to 5 p.m. on June 4, 2001.

FOR FURTHER INFORMATION CONTACT: Joanne Sinsheimer, (410) 786-4620.

SUPPLEMENTARY INFORMATION: On January 4, 2001, we issued a final rule with comment period in the Federal Register (66 FR 856) that incorporated into regulations the provisions in paragraphs (a), (b), and (h) of section 1877 of the Social Security Act (the Act). Under section 1877 of the Act, if a physician or a member of a physician's immediate family has a financial relationship with a health care entity, the physician may not make referrals to that entity for certain health services (designated health services) under the Medicare program, unless an exception applies. In addition, section 1877 of the Act provides that an entity may not present or cause to be presented a Medicare claim or bill to any individual, third party payer, or other entity for designated health services furnished under a prohibited referral, nor may we make payment for a designated health service furnished under a prohibited referral. We announced that the public comment period for the rule would close at 5 p.m. on April 4, 2001.

Because commenters have requested more time to analyze the potential consequences of the rule, and given the breadth of the statute and the variety of financial relationships to which it applies, we have decided to extend the comment period for an additional 60 days. This document announces the extension of the public comment period to June 4, 2001.

Authority: Secs. 1102 and 1871 of the Social Security Act (42 U.S.C. 1302 and 1395hh).

(Catalog of Federal Domestic Assistance Program No. 93.773 Medicare—Hospital Insurance Program; No. 93.774, Medicare-Supplementary Medical Insurance Program; No. 93.778, Medical Assistance Program)

Dated: March 28, 2001.
Michael McMullan,
Acting Deputy Administrator, Health Care Financing Administration.
Approved: March 29, 2001.
Tommy G. Thompson,
Secretary.

[FR Doc. 01-8296 Filed 4-3-01; 8:45 am]

BILLING CODE 4120-01-P